DEPARTMENT OF EDUCATION

Privacy Act of 1974; System of Records

AGENCY: Office of Management, Department of Education.

ACTION: Notice of deletion of existing system of records.

SUMMARY: In accordance with the Privacy Act of 1974, as amended (Privacy Act), the Department of Education (Department) deletes one system of records from its existing inventory of systems of records subject to the Privacy Act.

DATES: This deletion is effective July 16, 2012.

FOR FURTHER INFORMATION CONTACT: Winona H. Varnon, Principal Deputy Assistant Secretary, Office of Management, U.S. Department of Education, 400 Maryland Avenue SW., Room 2W311, Washington, DC 20202-4500. Telephone: (202) 401-1583.

If you use a telecommunications device for the deaf (TDD) or a text telephone (TTY), call the Federal Relay Service (FRS), toll free, at 1-800-877-8339.

Individuals with disabilities may obtain this document in an accessible format (e.g., Braille, large print, audiotape, or compact disc) on request to the contact person listed in this section.

SUPPLEMENTARY INFORMATION: The Department deletes one system of records from its inventory of record systems subject to the Privacy Act of 1974 (5 U.S.C. 552a), as amended. The deletion is not within the purview of subsection (r) of the Privacy Act, which requires submission of a report on a new or altered system of records.

This system of records is no longer needed because this system has been decommissioned. Further, no records have been retained; therefore the following system of records is deleted:

(18-05-14) Human Capital Learning and Performance Improvement System, 69 FR 19171-19176 (April 12, 2004).

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Winona H. Varnon, Principal Deputy Assistant Secretary for Management to perform the functions and duties of the Assistant Secretary for Management.

Dated: July 11, 2012.
Winona H. Varnon,
Principal Deputy Assistant Secretary for Management, delegated the authority to perform the functions and duties of the Assistant Secretary for Management.

For the reasons discussed in the preamble, the Principal Deputy Assistant Secretary of the Office of Management deletes the following system of records:

System No. | System name
18-05-14 | Human Capital Learning and Performance Improvement System.

[FR Doc. 2012-17310 Filed 7-13-12; 8:45 am]

BILLING CODE 4000-01-P